DEPARTMENT OF HEALTH AND HUMAN SERVICES

White House Initiative on Asian Americans and Pacific Islanders; President's Advisory Commission; Notice of Cancelled Meeting

In FR Document Number 02-28880 appearing on page 68874 in the issue for Wednesday, November 13, 2002, the meeting of the President's Advisory Commission on Asian Americans and Pacific islanders scheduled for Friday, November 22, 2002 from 10 a.m.-5 p.m. EST at the Key Bridge Marriott, 1401 Lee Highway, Arlington, VA 22209, has been cancelled.

Dated: November 14, 2002.
Regina B. Schofield,
Director, Office of Intergovernmental Affairs.

[FR Doc. 02-29491 Filed 11-15-02; 2:06 pm]

BILLING CODE 4165-15-M